DEPARTMENT OF ENERGY

Federal Energy Regulatory Commission

Notice of Attendance at North American Electric Reliability Corporation Meetings

October 19, 2010.

The Federal Energy Regulatory Commission hereby gives notice that members of the Commission and Commission staff may attend the following North American Electric Reliability Corporation meetings:

NERC Board of Trustees Meeting

November 3, 2010, Wednesday, Atlanta, GA, 1 p.m. to 5 p.m. ET, (Member Representatives Committee).

November 4, 2010, Thursday, Atlanta, GA, 8 a.m. to 1 p.m. ET.

The meetings scheduled to be held in Atlanta will take place at:

Grand Hyatt Atlanta—Buckhead, 3300 Peachtree Road, NE., Atlanta, GA 30305.

Further information may be found at http://www.nerc.com.

The above-referenced meetings are open to the public.

The discussions at each of the meetings described above may address matters at issue in the following proceedings:

Docket No. RC08-4, North American Electric Reliability Corporation;

Docket No. RC08-5, North American Electric Reliability Corporation;

Docket No. RD09-11, North American Electric Reliability Corporation;

Docket No. RD10-2, North American Electric Reliability Corporation;

Docket No. RD10-4, North American Electric Reliability Corporation;

Docket No. RD10-6, North American Electric Reliability Corporation;

Docket No. RD10-8, North American Electric Reliability Corporation;

Docket No. RD10-10, North American Electric Reliability Corporation;

Docket No. RD10-11, North American Electric Reliability Corporation;

Docket No. RD10-12, North American Electric Reliability Corporation;

Docket No. RD10-14, North American Electric Reliability Corporation;

Docket No. RD10-15, North American Electric Reliability Corporation;

Docket No. RR08-4, North American Electric Reliability Corporation;

Docket No. RR09-6, North American Electric Reliability Corporation;

Docket No. RR10-1, North American Electric Reliability Corporation;

Docket No. RR10-6, North American Electric Reliability Corporation;

Docket No. RR10-7, North American Electric Reliability Corporation;

Docket No. RR10-11, North American Electric Reliability Corporation;

Docket No. RR10-13, North American Electric Reliability Corporation.

For more information, contact Jonathan First, Special Reliability Counsel, Office of the General Counsel—Energy Markets, Federal Energy Regulatory Commission at (202) 502-8529 or jonathan.first@ferc.gov.

Kimberly D. Bose,
Secretary.

[FR Doc. 2010-26989 Filed 10-25-10; 8:45 am]

BILLING CODE 6717-01-P